DEPARTMENT OF EDUCATION

[Docket ID ED-2024-OUS-0014]

Request for Information (RFI) Regarding Developing a Postsecondary Student Success Award Program for Institutions of Higher Education

AGENCY: Office of the Under Secretary, U.S. Department of Education.

ACTION: Request for information.

SUMMARY: The U.S. Department of Education (Department) is requesting information in the form of written comments that include information, suggestions, and proposals regarding an award system to recognize institutions of higher education (IHEs) that serve as engines of opportunity and economic mobility by supporting all students to complete affordable credentials of value that prepare them well to participate in the workforce, their communities, and our democracy.

DATES: We must receive your comments by May 28, 2024.

ADDRESSES: Comments must be submitted via the Federal eRulemaking Portal at www.regulations.gov. However, if you require an accommodation or cannot otherwise submit your comments via regulations.gov, please contact the program contact person listed below under FOR FURTHER INFORMATION CONTACT. The Department will not accept comments by fax or by email, or comments submitted after the comment period closes. To ensure that the Department does not receive duplicate copies, please submit your comments only once. Additionally, please include the Docket ID at the top of your comments.

The Department strongly encourages you to submit any comments or attachments in Microsoft Word format. If you must submit a comment in Adobe Portable Document Format (PDF), the Department strongly encourages you to convert the PDF to “print-to-PDF” format, or to use some other commonly used searchable text format. Please do not submit the PDF in a scanned format. Using a print-to-PDF format allows the Department to electronically search and copy certain portions of your submissions to assist in the rulemaking process.

Federal eRulemaking Portal: Please go to www.regulations.gov to submit your comments electronically. Information on using regulations.gov, including instructions for finding a rule on the site and submitting comments, is available on the site under “FAQ.”

Privacy Note: The Department's policy is to generally make comments received from members of the public available for public viewing on the Federal eRulemaking Portal at www.regulations.gov. Therefore, commenters should include in their comments only information about themselves that they wish to make publicly available. Commenters should not include in their comments any information that identifies other individuals or that permits readers to identify other individuals. The Department will not make comments that contain personally identifiable information (PII) about someone other than the commenter publicly available on www.regulations.gov for privacy reasons. This may include comments where the commenter refers to a third-party individual without using their name if the Department determines that the comment provides enough detail that could allow one or more readers to link the information to the third party. If your comment refers to a third-party individual, to help ensure that your comment is posted, please consider submitting your comment anonymously to reduce the chance that information in your comment about a third party could be linked to the third party. The Department will also not make comments that contain threats of harm to another person or to oneself available on www.regulations.gov.

FOR FURTHER INFORMATION CONTACT: Jennifer Engle, U.S. Department of Education, 400 Maryland Avenue SW, room 5C136, Washington, DC 20202. Telephone: (202) 987-0420. Email: jennifer.engle@ed.gov.

If you are deaf, hard of hearing, or have a speech disability and wish to access telecommunications relay services, please dial 7-1-1.

SUPPLEMENTARY INFORMATION: For purposes of this award, the Department considers postsecondary student success to include providing access to an affordable education including to underserved populations,¹ supporting students through to completion of credentials of value, and helping students navigate to career pathways that improve their lives through economic opportunity and mobility.

¹ The definition of “underserved student,” for the purposes of this award, aligns with the definition of this term in the Secretary's Supplemental Priorities and Definitions for Discretionary Grant Programs, published in the Federal Register on December 10, 2021 (86 FR 70612) (Supplemental Priorities). This may include: (a) a student who is living in poverty or is served by schools with high concentrations of students living in poverty; (b) a student of color; (c) a student who is a member of a federally recognized Indian Tribe; (d) an English learner; (e) a student with a disability; (f) a student experiencing homelessness or housing insecurity; (g) a lesbian, gay, bisexual, transgender, queer or questioning, or intersex (LGBTQI+) student; (h) a student without documentation of immigration status; (i) a pregnant, parenting, or caregiving student; (j) a student impacted by the justice system, including a formerly incarcerated student; (k) a student who is the first in their family to attend postsecondary education; (l) a student enrolling in or seeking to enroll in postsecondary education for the first time at the age of 20 or older; (m) a student who is working full-time while enrolled in postsecondary education; (n) a student who is enrolled in or is seeking to enroll in postsecondary education who is eligible for a Pell Grant; (o) an adult student in need of improving their basic skills or an adult student with limited English proficiency; and/or (p) a military- or veteran- connected student.

I. Background

A college education can serve as a ladder to socioeconomic mobility and lifelong success. Postsecondary education is associated with lower rates of unemployment, higher levels of earnings, better health, and greater community engagement.² Higher education—particularly at certain broad access colleges and universities that enroll a significant share of students from low-income backgrounds and serve them well—can dramatically increase students' socioeconomic mobility, launching students from the lowest-income households into lives with economic security,³ helping to build a strong middle class that contributes to local communities and the broader economy.

² See, for example, Ma, J., & Matea, P. (2023). Education Pays 2023. New York: College Board. Retrieved from: research.collegeboard.org/media/pdf/education-pays-2023.pdf.

³ Chetty, R., Friedman, J. N., Saez, E., Turner, N., & Yagan, D. (2017). Mobility report cards: The role of colleges in intergenerational mobility (No. w23618. National Bureau of Economic Research. Retrieved from: www.equality-of-opportunity.org/papers/coll_mrc_paper.pdf.

However, at too many IHEs, a credential remains out of reach for many of their students. Just one in three first-time students at two-year colleges, and only two in three first-time students at four-year colleges, graduate from the first institution they attend within three and six years respectively.⁴ Further, despite 80 percent of community college students (aspiring to transfer to a four-year institution to earn bachelor's degrees, only about a third of community college students transfer to four-year institutions. Fewer than half of those students complete bachelor's degrees within six years.⁵ Students from low-income backgrounds, first-generation students, students of color, English language learners, adult students, students with disabilities, and other students who have been historically underserved in postsecondary education often fare worse, resulting in double-digit gaps in graduation rates for some students of color (e.g., 43 and 46 percent of Native American and Black students respectively graduate within six years compared to 68 percent of white students in four-year institutions) and some students from low-income backgrounds (e.g., 49 percent of first-time, full-time Pell Grant recipients in public institutions graduate within eight years compared to 66 percent of non-Pell students)in comparison to their peers.⁶

⁴ U.S. Department of Education, National Center for Education Statistics, Integrated Postsecondary Education Data System (IPEDS), Spring 2004 through Spring 2013 and Winter 2013-14 through Winter 2021-22, Graduation Rates component. (This table was prepared January 2023.) Retrieved from: nces.ed.gov/programs/digest/d22/tables/dt22_326.20.asp and U.S. Department of Education, National Center for Education Statistics, Integrated Postsecondary Education Data System (IPEDS), Graduation Rates component, Spring 2002 through Spring 2014 and Winter 2014-15 through Winter 2021-22 (final data) and Winter 2022-23 (provisional data); and Admissions component, IPEDS Winter 2015 (final data). (This table was prepared January 2024.) Retrieved from: nces.ed.gov/programs/digest/d23/tables/dt23_326.10.asp.

⁵ Shapiro, D., Dundar, A., Huie, F., Wakhungu, P. K., Yuan, X., Nathan, A., & Hwang, Y. (2017/2022 update). Tracking transfer: Measures of effectiveness in helping community college students to complete bachelor's degrees. National Student Clearinghouse Research Center. Retrieved from: nscresearchcenter.org/tracking-transfer/.

⁶ See, for example, U.S. Department of Education, National Center for Education Statistics, Integrated Postsecondary Education Data System (IPEDS), Winter 2016-17 and Winter 2021-22, Graduation Rates component; IPEDS Fall 2010 and Fall 2015, Institutional Characteristics component; and IPEDS Winter 2015-16, Admissions component. (This table was prepared February 2023.) Retrieved from: nces.ed.gov/programs/digest/d22/tables/dt22_326.15.asp and U.S. Department of Education, National Center for Education Statistics, IPEDS, Winter 2022-23, Outcome Measures component (provisional data). Retrieved from: nces.ed.gov/ipeds/Search?query=&query2=&resultType=all&page=1&sortBy=date_desc&surveyComponents=Outcome%20Measures%20(OM)&collectionYears=2021-22&sources=Tables%20Library&overlayTableId=36029.

Many students who leave college unable to earn a credential also hold debt from financing their postsecondary education. The consequences of stopping or dropping out can be significant, particularly for these borrowers. Students who leave college with educational debt, but no credential, are far more likely to default on their student loans, even when their balances are relatively low.⁷ Recent Department data show that 68 percent of students in default on their Federal student loans did not complete their program.⁸ Without affordable credentials and degrees that lead to good jobs, former students may not recoup the time and money they have invested in their schooling, not to mention the public investment in financing their education. Student debt can also negatively impact the economy by reducing consumption in homeownership and everyday goods and services.⁹

⁷ Miller, B. (2017). Who are student loan defaulters? Washington, DC: Center for American Progress. Retrieved from: www.americanprogress.org/article/student-loan-defaulters/.

⁸ Note: Among borrowers in default whose completion status is known. U.S. Department of Education. (2023). Data about Federal student loan borrowers in default. Negotiated Rulemaking for Higher Education 2023-2024. Retrieved from: www2.ed.gov/policy/highered/reg/hearulemaking/2023/data-on-borrowers-in-default.pdf.

⁹ Mezza, A., Ringo, D., Sommer, K. (January 2019). Can Student Loan Debt Explain Low Homeownership Rates for Young Adults? Consumer and Community Context (volume 1, number 1). Washington, DC: The Board of Governors of the Federal Reserve. Retrieved from: https://www.federalreserve.gov/publications/files/consumer-community-context-201901.pdf.

II. Postsecondary Education Success Efforts

Many IHEs, non-profit organizations, systems of higher education, and States have invested in postsecondary education success efforts and have improved transfer and graduation rates for all students, while enrolling students reflective of the communities they serve—whether locally, statewide, or nationally—including underserved populations. These efforts pay dividends for the students earning credentials of value—affordable certificates and degrees that lead to economic opportunity—as well as for their regional economies and communities.

For instance, studies show the importance of early support from institutions like help completing the Free Application for Federal Student Aid (FAFSA®) and well-designed financial aid programs, including high-quality free community college programs, in promoting student success.¹⁰ Other studies show that the adoption of co-requisite (as opposed to pre-requisite) remediation programs and reforming placement policies can help ensure students successfully complete college-level coursework needed for graduation while simultaneously addressing opportunity gaps in access to courses, programs, and other supports that strengthen students' English or math skills,¹¹ which may result from disparities in their secondary school experiences or delays in college-going to pursue employment. Similarly, research indicates that comprehensive, integrated academic advising—including wraparound support services such as transportation and child care as well as accessibility services—can be critically important to ensuring students complete academic coursework and graduate at higher rates.¹² Research also shows that students with disabilities who access universally-available or disability-related supports are more likely to persist in their college program.¹³ Colleges and universities that have improved student outcomes often go beyond implementing specific interventions by instituting more comprehensive, data-driven transformation efforts.¹⁴ Research consistently shows that implementing these kinds of evidence-based practices can improve postsecondary success rates, which is why the Department wants to shine a spotlight on the institutions and their partners that are already doing exceptional work to ensure successful outcomes for all of their students.

¹⁰ See, for example, Bettinger, E., Long, B., Oreopoulos, P., & Sanbonmatsu, L. (2012). The role of application assistance and information in college decisions: Results from the H&R Block FAFSA experiment. Quarterly Journal of Economics, 127(3), 1205-1242. Retrieved from: ies.ed.gov/ncee/wwc/Study/78087; David, D., & Dynarski, S. (2009). Into college, out of poverty? Policies to increase the postsecondary attainment of the poor. NBER Working Paper, 15387. Retrieved from: www.nber.org/system/files/working_papers/w15387/w15387.pdf; Harris, D. N., & Mills, J. (2021). Optimal college financial aid: Theory and evidence on free college, early commitment, and merit aid from an eight-year randomized trial (EdWorkingPaper: 21-393). Retrieved from Annenberg Institute at Brown University: doi.org/10.26300/wz1m-v526.

¹¹ See, for example, Institute of Education Sciences (2021). What Works Clearinghouse Summary of Evidence: Dana Center Mathematics Pathways. Washington, DC: U.S. Department of Education. Retrieved from: ies.ed.gov/ncee/wwc/Intervention/1602; Miller, T., Daugherty, L., Martorell, P., & Gerber, R. (2022). Assessing the effect of corequisite English instruction using a randomized controlled trial. Journal of Research on Educational Effectiveness, v15 n1 p78-102. Retrieved from eric.ed.gov/?id=EJ1327668.

¹² See, for example, Karp, M., Ackerson, S., Cheng, I., Cocatre-Zilgien, E., Costelloe, S., Freeman, B., Lemire, S., Linderman, D., McFarlane, B., Moulton, S., O'Shea, J., Porowski, A., & Richburg-Hayes, L. (2021). Effective advising for postsecondary students: A practice guide for educators (WWC 2022003). Washington, DC: National Center for Education Evaluation and Regional Assistance (NCEE), Institute of Education Sciences, U.S. Department of Education. Retrieved from: ies.ed.gov/ncee/wwc/PracticeGuide/28.

¹³ Newman, L. A., Madaus, J. W., Lalor, A. R., & Javitz, H. S. (2020). Effect of accessing supports on higher education persistence of students with disabilities. Journal of Diversity in Higher Education. Retrieved from https://files.eric.ed.gov/fulltext/ED605478.pdf.

¹⁴ See, for example, Gumbel, A. (2020). Won't lose this dream: How an upstart urban university rewrote the rules of a broken system. New York City: The New Press.

III. Solicitation of Comments: Developing a Postsecondary Student Success Award Program for Institutions of Higher Education

The Department is interested in developing an award system to recognize IHEs ¹⁵ that are supporting success across all of their students by conferring affordable credentials of value that lead to economic success while enrolling student bodies reflective of their communities—including students from underserved populations. The Department requests comments on how to understand institutions' efforts to ensure success in postsecondary education in order to evaluate and select institutions to receive the award. We seek feedback on what information the Department should request or require of institutions that are invited to apply and what information we should use to determine which institutions should be selected to receive the award:

¹⁵ The term “institution of higher education” here has the same meaning ascribed the term in 20 U.S.C. 1001.

1. What metrics should the Department use and how should the Department measure performance on those metrics to determine both which institutions should be eligible to apply for and which should be selected to receive the award? The Department is particularly interested in—

• Which data and data sources to use related to access, transfer and completion, and post-college outcomes (e.g., preparing students for high-demand occupations that pay a livable wage or further training and education, providing economic value or affordability in relation to earnings);

• What benchmarks to use to measure performance and progress on these metrics and what methods to use to weigh performance across these metrics to assess eligibility and confer awards; and

• What contextual factors and operational structures (e.g., selectivity) should be considered alongside these metrics including whether and how to categorize institutions for purposes of award eligibility and receipt;

• Which categories to use to disaggregate student data especially for underserved students (e.g., economic status, first-generation status, race/ethnicity, English learner status, disability status).

2. How should applicant institutions demonstrate they are using data to drive success for all students while enrolling a student body reflective of the communities they serve, including underserved populations? The Department is particularly interested in understanding how the application for the award can show:

• Which data and research have been used to identify the institutional policies and practices needed to ensure success for all students and how data and research have been used to set goals and to implement and evaluate evidence-based solutions;

• Which data are used by institutional leaders, faculty, and staff to monitor progress toward success goals and what processes and structures are used to ensure data are well understood and used broadly and frequently across the campus community to ensure student success, especially for underserved populations;

• How institutions have assessed and addressed gaps in their data systems, tools, and capacity to support student success efforts and use these data to support systems of continuous improvement, including whether institutions are using more robust and real-time data than available from public data systems (e.g., IPEDS) such as leading indicators of student success based on course-level data (e.g., credit accumulation, gateway course completion); predictive analytics based on student engagement; unmet financial need; retention, transfer, and completion rates inclusive of all students; time and credits to credential or upward transfer; upward transfer rates and post-transfer success rates; pursuit of graduate education; and earnings, debt, and loan repayment by program and completion status; and

• How data are shared with other education institutions in the State or region, including those in the preK-12 system (including alternative preparation programs) and IHEs from which and to which students transfer, and with relevant State agencies, to inform coordinated student success efforts.

3. How should applicant institutions demonstrate a commitment by senior leadership, including the governing board of the institution (where applicable), to support economic mobility through campus-wide student success efforts? The Department is particularly interested in understanding how the application can show:

• That the vision, mission, and strategic goals of the institutions reflect an actualized commitment to shared success for all students, including populations that may be underserved by postsecondary education;

• That the efforts and strategies undertaken by the institution create a shared value system and cross-campus culture supportive of an institutional commitment to student success;

• That the organization and staffing of the institution ensure a continued focus on maintaining or increasing success rates for all students, including through faculty and staff selection, onboarding, training, and development, and that faculty are well integrated into, and committed to, student success efforts;

• That the institution has established effective external partnerships by the institution to help support success efforts; and

• That the success efforts undertaken by the institution are sustainable, both through funding and through organizational design strategies.

4. How should applicant institutions demonstrate the effectiveness of their strategies to ensure economic mobility through student success efforts? The Department is particularly interested in understanding how the application can show:

• The impact of effective implementation of interventions and strategies across all student groups leading to completion and post-college education and economic opportunity;

• The integration of such strategies with other institutional planning efforts, such as strategic plan development and renewal of accreditation processes, as well as continuous improvement efforts; and

• The rigorous evaluation of the strategies implemented by the institution and the dissemination of such evaluations to support knowledge-building in the field as well as transparency regarding student outcomes, such as through public dashboards.

This is a request for information only. This RFI is not a request for proposals (RFP) or a promise to issue an RFP or a notice inviting applications. This RFI does not commit the Department to contract for any supply or service whatsoever. Further, we are not seeking proposals and will not accept unsolicited proposals. The Department will not pay for any information or administrative costs that you may incur in responding to this RFI. The documents and information submitted in response to this RFI become the property of the U.S. Government and will not be returned.

Accessible Format: On request to the program contact person listed under FOR FURTHER INFORMATION CONTACT, individuals with disabilities can obtain this document in an accessible format. The Department will provide the requestor with an accessible format that may include Rich Text Format (RTF) or text format (txt), a thumb drive, an MP3 file, Braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Program Authority: 20 U.S.C. 3402.

James Kvaal,
Under Secretary, U.S. Department of Education.

[FR Doc. 2024-08541 Filed 4-24-24; 8:45 am]

BILLING CODE 4000-01-P